FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than August 23, 2002.

A. Federal Reserve Bank of Minneapolis (Julie Stackhouse, Vice President) 90 Hennepin Avenue, Minneapolis, Minnesota 55480-0291:

1. Jerry E. Gerber, Rice Lake, Wisconsin; Terry G. Gerber, Cameron, Wisconsin; Susan J. Gerber, Blaine, Minnesota; Ernest J. Gerber, Bruce, Wisconsin; Alan F. Gerber, Radisson, Wisconsin; Kathleen L. Gerber, Quincy, Massachusetts; and Holly A. Barnes, Hayward, Wisconsin, to acquire voting shares of Old Murry Bancorp, Inc., Cameron, Wisconsin, and thereby indirectly acquire voting shares of Owen-Curtiss Financial Corporation, Rice Lake, Wisconsin, Brill Bancshares, Inc., Rice Lake, Wisconsin, Brill State Bank, Rice Lake, Wisconsin, and Gilman Corporation, Gilman, Wisconsin, and State Bank of Gilman, Gilman, Wisconsin.

2. Marcelle McVay, Chicago, Illinois, to retain voting shares of Minnwest Corporation, Minnetonka, Minnesota, and thereby indirectly retain voting shares of Minnwest Bank Luverne, Luverne, Minnesota; Minnwest Bank Central, Montevideo, Minnesota; Minnwest Bank Ortonville, Ortonville, Minnesota; Minnwest Bank, M.V., Redwood Falls, Minnesota; Minnwest Bank South, Tracy, Minnesota; and Minnwest Bank Sioux Falls, Sioux Falls, South Dakota.

3. Kenneth D. and Suzanne M. Roeder, De Smet, South Dakota, to acquire voting shares of Kingsbury Bank Holding Company, De Smet, South Dakota, and thereby indirectly acquire voting shares of Peoples State Bank, De Smet, South Dakota.

Board of Governors of the Federal Reserve System, August 5, 2002.
Robert deV. Frierson,
Deputy Secretary of the Board.

[FR Doc. 02-20087 Filed 8-7-02; 8:45 am]

BILLING CODE 6210-01-S